DEPARTMENT OF COMMERCE

International Trade Administration

[A-821-819]

Notice of Extension of Time Limit for Preliminary Results of Antidumping Duty Administrative Review: Magnesium Metal from the Russian Federation

AGENCY: Import Administration, International Trade Administration, Department of Commerce.

EFFECTIVE DATE: December 18, 2007.

FOR FURTHER INFORMATION CONTACT: Dmitry Vladimirov, AD/CVD Operations, Office 5, Import Administration, International Trade Administration, U.S. Department of Commerce, 14th Street and Constitution Avenue, NW, Washington, DC 20230; telephone: (202) 482-0665.

Background

The Department of Commerce (the Department) published an antidumping duty order on magnesium metal from the Russian Federation on April 15, 2005. See Notice of Antidumping Duty Order: Magnesium Metal from the Russian Federation, 70 FR 19930 (April 15, 2005). On April 30, 2007, PSC VSMPO-AVISMA Corporation, a Russian Federation producer of the subject merchandise, requested that the Department conduct an administrative review. On April 30, 2007, U.S. Magnesium Corporation LLC, the petitioner in this proceeding, also requested that the Department conduct an administrative review with respect to PSC VSMPO-AVISMA Corporation and Solikamsk Magnesium Works (SMW), another Russian Federation producer of the subject merchandise. On May 30, 2007, the Department published a notice of initiation of an administrative review of the antidumping duty order on magnesium metal from the Russian Federation for the period April 1, 2006, through March 31, 2007. See Initiation of Antidumping and Countervailing Duty Administrative Reviews and Request for Revocation in Part, 72 FR 29968 (May 30, 2007). On July 11, 2007, SMW notified the Department that it will not participate in this administrative review. The preliminary results of this administrative review are currently due no later than December 31, 2007.

Extension of Time Limit for Preliminary Results

Section 751(a)(3)(A) of the Tariff Act of 1930, as amended (the Act), requires the Department to make a preliminary determination within 245 days after the last day of the anniversary month of an order for which a review is requested and a final determination within 120 days after the date on which the preliminary determination is published in the Federal Register. If it is not practicable to complete the review within these time periods, section 751(a)(3)(A) of the Act allows the Department to extend the time limit for the preliminary determination to a maximum of 365 days after the last day of the anniversary month.

We determine that it is not practicable to complete the preliminary results of this review by the current deadline of December 31, 2007. We require additional time to analyze a number of complex cost-accounting issues present in this administrative review, such as the calculation of the appropriate by-product offset value to use in the determination of production costs.

Therefore, in accordance with section 751(a)(3)(A) of the Act and 19 CFR 351.213(h)(2), we are extending the time period for issuing the preliminary results of this review by 120 days to April 29, 2008.

This notice is published in accordance with sections 751(a)(3)(A) and 777 (i)(1) of the Act.

Dated: December 12, 2007.
Stephen J. Claeys,
Deputy Assistant Secretary for Import Administration.

[FR Doc. E7-24498 Filed 12-17-07; 8:45 am]

BILLING CODE 3510-DS-S